DEPARTMENT OF AGRICULTURE

Submission for OMB Review; Comment Request

August 14, 2013.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical or other technological collection techniques or other forms of information technology.

Comments regarding this information collection received by September 19, 2013 will be considered. Written comments should be addressed to: Desk Officer for Agriculture, Office of Information and Regulatory Affairs, Office of Management and Budget (OMB), New Executive Office Building, 725—17th Street NW., Washington, DC 20503. Commenters are encouraged to submit their comments to OMB via email to: OIRA_Submission@omb.eop.gov or fax (202) 395-5806 and to Departmental Clearance Office, USDA, OCIO, Mail Stop 7602, Washington, DC 20250-7602. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service

Title: Wheat and Barley Scab Control Practices Survey.

OMB Control Number: 0535-NEW.

Summary of Collection: The primary objectives of the National Agricultural Statistics Service (NASS) are to prepare and issue official State and national estimates of crop and livestock production, disposition and prices, economic statistics, and environmental statistics related to agriculture and to conduct the Census of Agriculture and its follow-on surveys. This project is conducted as a cooperative effort with the U.S. Wheat and Barley Scab Initiative (USWBSI) which is funded by USDA's Agricultural Research Service (ARS). This survey is being conducted as a pilot. The goal of the overall project is to determine the economic factors which influence scab control measures. General authority for these data collection activities is granted under U.S. Code Title 7, Section 2204(a) which specifies that “The Secretary of Agriculture shall procure and preserve all information concerning agriculture which he can obtain . . . by the collection of statistics . . . and shall distribute them among agriculturists.” Individually identifiable data collected under this authority are governed by Section 1770 of the Food Security Act of 1985 as amended, 7 U.S.C. 2276, which requires USDA to afford strict confidentiality to non-aggregated data provided by respondents.

Need and Use of the Information: The survey will use a sampling universe defined as producers that harvest wheat or barley in seventeen States. NASS and USWBSI hope to determine which practices are utilized to control scab with relation to the types of farms that employ those practices. The information will be analyzed by small-grain pathologists, agricultural economists, and stakeholders in small-grain production. Results will be used to identify strategies for enhancing adoption of scab management techniques.

Description of Respondents: Business or other for-profit; Farms.

Number of Respondents: 10,800.

Frequency of Responses: Reporting: One time.

Total Burden Hours: 5,166.

Charlene Parker,
Departmental Information Collection Clearance Officer.

[FR Doc. 2013-20175 Filed 8-19-13; 8:45 am]

BILLING CODE 3410-20-P